DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: NOAA Constituent Engagement Survey.

OMB Control Number: 0648-0615.

Form Number(s): NA.

Type of Request: Regular submission (revision and extension of a current information collection).

Number of Respondents: 650.

Average Hours per Response: 20 minutes.

Burden Hours: 217.

Needs and Uses: This request is for revision and extension of a current information collection. NOAA supplies the nation with information, products and services that are essential public goods used in public and private sectors, science institutions and households around the world. Because NOAA's information, products and services are important to both the nation as a whole and to the daily lives of U.S. citizens, NOAA's Science Advisory Board (SAB) has identified a need for more effective two-way communication between its programs and the customers and clients it serves. This survey instrument will be used by the National Sea Grant Program to obtain information used to assess NOAA's accessibility, responsiveness and respect for partners. These parameters are three of the seven parameters included in the Kellogg Engagement Test, which the SAB recommended NOAA use for assessing engagement with constituents. One objective of the survey is to collect responses to provide NOAA Sea Grant with information and feedback from its constituents that will lead to greater emphasis placed on the needs of NOAA Sea Grant partners, techniques to improve the products and services, and general improvement in the accessibility and responsiveness of NOAA Sea Grant to constituents.

Revision: The survey will be conducted by the Sea Grant Program rather than the Office of Education and the Gulf of Mexico Regional Collaboration Team, as it was originally.

Affected Public: Individuals or households; business or other for-profit organizations; not-for-profit institutions; state, local or tribal government.

Frequency: Annually.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: October 25, 2013.
Gwellnar Banks,
Management Analyst, Office of the Chief Information Officer.

[FR Doc. 2013-25850 Filed 10-30-13; 8:45 am]

BILLING CODE 3510-KA-P